DEPARTMENT OF ENERGY

Federal Energy Regulatory Commission

[Docket No. RP03-150-001]

Northern Natural Gas Company; Notice of Compliance Filing

December 13, 2002.

Take notice that on December 6, 2002, Northern Natural Gas Company (Northern), tendered for filing in its FERC Gas Tariff, Fifth Revised Volume No. 1, Substitute 64 Revised Sheet No. 51, to be effective January 1, 2003.

Northern states that it is refiling a Substitute 64 Revised Tariff Sheet No. 51 to correct the System Balancing Agreement (SBA) Market-to-Market Rate. The correct rate is $0.131 as noted on Substitute 64 Revised Sheet No. 51, rather than $0.132 which was shown on 64 Revised Sheet No. 51 filed on November 27, 2002.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-32023 Filed 12-18-02; 8:45 am]

BILLING CODE 6717-01-P